DEPARTMENT OF ENERGY

Federal Energy Regulatory Commission

Notice of Application for Amendment of License and Soliciting Comments, Motions To Intervene, and Protests

January 22, 2003.

Take notice that the following application has been filed with the Commission and is available for public inspection:

a. Application Type: Amendment of License to Change Project Design and Project Boundary Due to Proposed Relocation of Powerhouse.

b. Project No.: 11175-016.

c. Date Filed: April 4, 2002.

d. Applicant: Crown Hydro, LLC.

e. Name of Project: Crown Mill.

f. Location: The project is located on the Mississippi River, in Hennepin County, Minnesota.

g. Filed Pursuant to: Federal Power Act, 16 U.S.C. 791 (a) 825(r) and 799 and 801.

h. Applicant Contact: Tom Griffin, Crown Hydro LLC, 5436 Columbus Avenue South, Minneapolis, MN 55427, (612) 825-1043.

i. FERC Contact: Any questions on this notice should be addressed to Mrs. Anumzziatta Purchiaroni at (202) 502-6191, or e-mail address: anumzziatta.purchiaroni@ferc.gov.

j. Deadline for filing comments and or motions: February 18, 2003.

All documents (original and eight copies) should be filed with: Magalie R. Salas, Secretary, Federal Energy Regulatory Commission, 888 First Street, NE., Washington DC 20426. Please include the project number (P-11175-016) on any comments or motions filed.

k. Description of Request: Crown Hydro LLC (Crown) is proposing a change in project boundary to relocate the project's powerhouse, and to make additional modifications to the project. The project as originally licensed in 1999 included a powerhouse containing two vertical Kaplan generating units with a total capacity of 3,400 kW to be located in the basement of the historic Crown Roller Building on the west side of West River Parkway. Crown is now proposing to construct a powerhouse containing two vertical Kaplan generating units with a total capacity of 3,150 kW, on the east side of the West River Parkway, within the footprint of the remains of the Holly and Cataract Mill Foundation. The relocated powerhouse would be designed as an at-grade structure with two stairwells that would have above ground fencing, located within the Minneapolis Park and Recreation Board's property, at the Mill Ruins Park. Resources affected by this proposed amendment include cultural and aquatics.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 with or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-1929 Filed 1-27-03; 8:45 am]

BILLING CODE 6717-01-P